DEPARTMENT OF JUSTICE

Notice of Lodging of Proposed Consent Decree Under the Clean Water Act

On August 5, 2021, the Department of Justice filed a complaint and lodged a proposed consent decree with the United States District Court for the District of North Dakota in the lawsuit entitled United States and North Dakota v. Summit Midstream Partners, LLC and Meadowlark Midstream Company, LLC, Civil Action No. 1:21-cv-00161. The Department of the Interior's Fish and Wildlife Service, the North Dakota Department of Environmental Quality, and the North Dakota Department of Game and Fish (“Trustees”) are also providing notice of an opportunity for public comment on a Draft Restoration Plan.

The United States and the State of North Dakota filed this lawsuit under the Clean Water Act and North Dakota water pollution control laws. The complaint names Summit Midstream Partners, LLC and Meadowlark Midstream Company, LLC as defendants. The complaint seeks injunctive relief, civil penalties, and natural resource damages for violations of the Clean Water Act and North Dakota law as a result of a produced water spill from a pipeline owned and operated by Defendants. Defendants' pipeline discharged more than 700,000 barrels of produced water between August 2014 and January 2015; produced water from the spill reached groundwater, a nearby creek, and downstream rivers.

The Consent Decree requires Defendants to perform injunctive relief; remediate environmental impacts; pay $250,000 in natural resource damage assessment costs; pay $1,000,000 to be used by the Trustees for the costs of projects that restore, rehabilitate, replace, or acquire the equivalent of natural resources; and pay a $20,000,000 civil penalty to be split evenly between the United States and North Dakota. Based on certain ability to pay limitations, the civil penalty will be paid over six years, subject to interest. The Consent Decree resolves the civil claims alleged by the United States and North Dakota in the complaint. Under the Consent Decree, the United States and North Dakota also agreed not to sue Defendants for natural resource damages resulting from the produced water spill.

The Trustees have written a Draft Restoration Plan that describes proposed alternatives for restoring natural resources and natural resource services injured by the produced water spill. The preferred alternatives include three restoration project types: (1) Aquatic service enhancements; (2) conservation of environmentally sensitive lands; and (3) recreational access enhancement.

The publication of this notice opens a period for public comment on the Consent Decree and the Draft Restoration Plan. Comments on the Consent Decree should be addressed to the Assistant Attorney General, Environment and Natural Resources Division, and should refer to United States and North Dakota v. Summit Midstream Partners, LLC and Meadowlark Midstream Company, LLC, D.J. Ref. No. 90-5-2-1-11253. All comments must be submitted no later than thirty (30) days after the publication date of this notice. Comments may be submitted either by email or by mail:

To submit comments: | Send them to:
By email | pubcomment-ees.enrd@usdoj.gov.
By mail | Assistant Attorney General, U.S. DOJ—ENRD, P.O. Box 7611, Washington, DC 20044-7611.

During the public comment period, the Consent Decree may be examined and downloaded at this Justice Department website: https://www.justice.gov/enrd/consent-decrees. We will provide a paper copy of the Consent Decree upon written request and payment of reproduction costs. Please mail your request and payment to: Consent Decree Library, U.S. DOJ—ENRD, P.O. Box 7611, Washington, DC 20044-7611.

Please enclose a check or money order for $23.00 (25 cents per page reproduction cost) payable to the United States Treasury. For a paper copy without the appendices and signature pages, the cost is $16.25.

Comments on the Draft Restoration Plan may be submitted to the Trustees, and should refer to Blacktail Creek—Summit Midstream Pipeline Release Settlement Agreement, DOI Reference #9590. All comments on the Draft Restoration Plan must be submitted no later than 30 days after the publication date of this notice. Comments on the Draft Restoration Plan may be submitted either by email or by mail:

To submit comments: | Send them to:
By email | FW6Blacktail_CreekNRDAR@fws.gov.
By mail | Jessica Johnson U.S. Fish and Wildlife Service 3425 Miriam Ave., Bismarck, ND 58501.

During the public comment period, a copy of the Draft Restoration Plan will be available electronically at https://www.fws.gov/mountain-prairie/pressrel/archives/index.php and at https://deq.nd.gov/EHSRulesRegs.aspx. A link to the Draft Restoration Plan and updates about it will also be made available on the Listserv of the North Dakota Department of Environmental Quality (“NDDEQ”). To be placed on the Listserv, please visit https://deq.nd.gov/subscriptions/ and self-register, or contact the NDDEQ by phone at (701) 328-5150, or by email at deq@nd.gov. A copy of the Draft Restoration Plan may also be examined at 3425 Miriam Avenue, Bismarck ND 58501. Arrangements to view the Draft Restoration Plan must be made in advance by contacting (701) 250-4402.

Susan Akers,
Assistant Section Chief,Environmental Enforcement Section,Environment and Natural Resources Division.

[FR Doc. 2021-17093 Filed 8-10-21; 8:45 am]

BILLING CODE 4410-15-P